DEPARTMENT OF TRANSPORTATION

National Highway Traffic Safety Administration

[Docket No. NHTSA 2003-15701; Notice 2]

Bridgestone/Firestone North America Tire, LLC (BFNT); Grant of Application for Decision That a Noncompliance Is Inconsequential to Motor Vehicle Safety

Bridgestone/Firestone North America Tire, LLC (BFNT) has determined that approximately 1,228 P235/75R15 Peerless AMBASSADOR tires do not meet the labeling requirement mandated by Federal Motor Vehicle Safety Standard (FMVSS) No. 109, “New Pneumatic Tires.”

Pursuant to 49 U.S.C. 30118(d) and 30120(h), BFNT has petitioned for a determination that this noncompliance is inconsequential to motor vehicle safety and has filed an appropriate report pursuant to 49 CFR part 573, “Defect and Noncompliance Reports.” Notice of receipt of the application was published, with a 30-day comment period, on August 19, 2003, in the Federal Register (68 FR 49841). NHTSA received no comment on this application.

BFNT's Oklahoma City, Oklahoma plant produced approximately 1,228 tires with incorrect markings during the U.S. Department of Transportation's weeks of 17, 18, and 19 in 2003 (from April 20, 2003 through May 10, 2003). The tires were marked: “Tread Plies: 1 Polyester + 2 Steel + 1 Polyamide, Sidewall Plies: 1 Polyester.” The correct marking required by FMVSS No. 109 is “Tread Plies: 2 Polyester + 2 Steel + 1 Polyamide, Sidewall Plies: 2 Polyester.”

The labeling requirements of FMVSS No. 109, New Pneumatic Tires, S4.3, paragraphs (d) and (e), mandate that each tire have permanently molded into or onto both sidewalls the actual number of plies in the sidewall, and the actual number of plies in the tread area, if different. Also, each tire must be labeled with the generic name of each cord material used in the sidewall and tread.

BFNT argues that the noncompliance described herein is inconsequential to motor vehicle safety. The noncompliant subject tires were constructed with more tread plies than indicated on the sidewall marking (two instead of one). BFNT states that this noncompliance is unlikely to have an adverse impact on motor vehicle safety since the actual construction of the subject tires is more robust than that identified on the sidewall. The noncompliant tires meet or exceed all performance requirements of FMVSS No. 109 and, the noncompliance will have no impact on the operational performance or safety of vehicles on which these tires are mounted.

The Transportation Recall, Enhancement, Accountability, and Documentation (TREAD) Act (Pub. L. 106-414) required, among other things, that the agency initiate rulemaking to improve tire label information. In response, the agency published an Advance Notice of Proposed Rulemaking (ANPRM) in the Federal Register on December 1, 2000 (65 FR 75222). The agency received more than 20 comments on the tire labeling information required by 49 CFR Sections 571.109 and 119, part 567, part 574, and part 575. With regard to the tire construction labeling requirements of FMVSS 109, S4.3, paragraphs (d) and (e), most commenters indicated that the information was of little or no safety value to consumers. However, according to the comments, when tires are processed for retreading or repairing, it is important for the retreader or repair technician to understand the make-up of the tires and the types of plies. This enables them to select the proper repair materials or procedures for retreading or repairing the tires. A steel cord radial tire can experience a circumferential or “zipper” rupture in the upper sidewall when it is operated underinflated or overloaded. If information regarding the number of plies and cord material is removed from the sidewall, technicians cannot determine if the tire has a steel cord sidewall ply. As a result, many light truck tires will be inflated outside a restraining device or safety cage where they represent a substantial threat to the technician. This information is critical when determining if the tire is a candidate for a zipper rupture. In this case, since the steel cord construction is properly identified on the sidewall, the technician will have sufficient notice.

In addition, the agency conducted a series of focus groups, as required by the TREAD Act, to examine consumer perceptions and understanding of tire labeling. Few of the focus group participants had knowledge of tire labeling beyond the tire brand name, tire size, and tire pressure.

The agency believes that the true measure of inconsequentiality to motor vehicle safety, in this case, is the effect of the noncompliance on the operational safety of vehicles on which these tires are mounted. Since the tires had more tread plies than indicated on the sidewall, the labeling noncompliance has no effect on the performance of the subject tires. A tire with more tread plies is likely to be a more robust tire even though it has no additional load-carrying capacity.

In consideration of the foregoing, NHTSA has decided that the applicant has met its burden of persuasion that the noncompliance is inconsequential to motor vehicle safety. Accordingly, its application is granted and the applicant is exempted from providing the notification of the noncompliance as required by 49 U.S.C. 30118, and from remedying the noncompliance, as required by 49 U.S.C. 30120.

Authority: (49 U.S.C. 30118(d) and 30120(h); delegations of authority at 49 CFR 1.50 and 501.8)

Issued on: March 2, 2005.
Stephen R. Kratzke,
Associate Administrator for Rulemaking.

[FR Doc. 05-4435 Filed 3-7-05; 8:45 am]

BILLING CODE 4910-59-P